DEPARTMENT OF THE INTERIOR

National Park Service

30-Day Federal Register Notice of Submission to the Office of Management and Budget; Opportunity for Public Comment

AGENCY: National Park Service, Department of the Interior.

ACTION: Notice of submission to the Office of Management and Budget and request for comments.

SUMMARY: Under provisions of the Paperwork Reduction Act of 1995 (44 U.S.C. 3507(a)(1)(D) and 5 CFR part 1320), the National Park Service (NPS) invites comments on a request submitted to the Office of Management and Budget (OMB) to approve a revision of a currently approved information collection clearance (OMB No. 1024-0236) containing three revised forms in the NP's revised automated Research Permit and Reporting System. Comments are invited on: (1) Whether the collection of information is necessary for the proper performance of the park protection functions of the NPS, including whether the information has practical utitlity; (2) the accuracy of the NPS estimate of the burden of the collection of information, including the validity of the methodology and assumptions used; (3) the quality, utility and clarity of the information to be collected; and (4) ways to minimize the burden of the information collection on respondents, including use of automated, electronic, mechanical or other forms of information technology.

OMB has up to 60 days to approve or disapprove the requested information collection budget but may respond after 30 days. Thus, public comments should be submitted to OMB within 30 days in order to assure their maximum consideration.

Primary Purpose of the Proposed Information Collection Request: The NPS requires information from applicants wishing to conduct natural or social science research or studies or science education activities in parks for two reasons. The first is to ensure that scientific research and collecting studies or science education activities permitted in parks in response to an application do not unacceptably impact park resources and other uses of parks. The second is to ensure that applicants who receive permits submit annual research progress and other reports to the NPS. These reports inform NPS about the permittees' scientific findings in the parks and provide NPS with information NPS uses for monitoring the use of parks for scientific research and collecting studies and science education activities.

The automated NPS Research Permit and Reporting System Web site (http://science.nature.nps.gov/research) provides access to the current information collection and status reporting system that underlies this extension request.

Response to 60-Day Notice: On December 5, 2003, NPS published a notice in the Federal Register to request comments on the proposal to extend and modify two existing NPS information collection instruments that are processed by the existing, Internet-based Research Permit and Reporting System (see 68 FR: 68110-68111). NPS received no responses from the public. NPS subsequently contacted two potential reviewers by e-mail, one of whom had commented in response to a similar Federal Register notice in 1999. The previous commenter did not respond to the e-mail request. The other e-mail recipient responded to a different part of the e-mail of contact and did not directly respond to the opportunity to comment on the Federal Register notice. NPS and researcher use of the Internet-based system over the past three years has yielded few complaints and has earned a number of kudos. This use also has yielded suggestions from both respondents and government employees for making the information collection forms or software more efficient or more usable. Many of these suggestions were considered by two NPS working groups (November 2002; September 2003). The working group deliberations led to appropriate modifications being incorporated through ongoing software improvements, through release of a second version of the software in December 2003, and through the changes to the collection of information forms proposed as part of this renewal request. Such receipt of, and action on, user suggestions constitutes ongoing consultation with people from whom information is being collected and by whom collected information is being applied. Should OMB approve the revised collection of information forms submitted in this extension request, additional software changes will be made to incorporate the improvements contained in these revised forms.

DATES: Public comments on this notice must be received by July 6, 2004.

ADDRESSES: You may submit comments directly to the Desk Officer for the Department of Interior (OMB No. 1024-0236), Office of Information and Regulatory Affairs, OMB, by fax at 202-395-6566 or by electronic mail at oira_docket@omb.eop.gov. Please also mail or hand carry a copy of your comments to Dr. John G. Dennis, Natural Resources (MIB 3127), National Park Service, 1849 C Street, NW., Washington, DC 20240; via fax at (202)-371-2131; or via electronic mail at WASO_NRSS_researchcoll@nps.gov.

If you comment via electronic mail, please submit your comments as an attached ASCII or MSWord file and avoid the use of special characters and any form of encryption. Please also include “Attn: NPS Research Permit and Reporting System” and your name and return address in your email message. If you would like, but do not receive, a confirmation from the system that we have received your email message, contact us directly at the phone number given here.

All comments will become a matter of public record. Our practice is to make comments, including respondent names and addresses (business or home, whatever we receive), available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety. We will not consider anonymous comments.

Copies of the information collection request may be obtained by contacting John Dennis at the above noted electronic mail address or by telephone at (202) 513-7174.

SUPPLEMENTARY INFORMATION: Title: NPS Research and Reporting System Collection of Information.

Form: The collection of information contains three automated NPS forms: Application for a Scientific Research and Collecting Permit (Form 10-741a); Application for a Science Education Permit (Form 10-741b), Investigator's Annual Report (Form 10-226).

OMB Number: 1024-0236.

Expiration Date: April 30, 2004.

Type of Request: Revision of a currently approved collection of information.

Description of Need: The NPS regulates scientific research and collecting studies and science education activities inside park boundaries under regulations codified at 36 CFR part 2, section 2.5. The NPS issued these regulations pursuant to authority under the NPS Organic Act of 1916 as amended (16 U.S.C. 1 et seq.). The NPS administers these regulations to provide for scientific research and collecting and scientific education uses of parks while also protecting park resources and other park uses from adverse impacts that could occur if inappropriate scientific research and collecting studies or science education activities were to be conducted within park boundaries.

Respondents: Individual scientific investigators or science educators from other governmental agencies, universities and colleges, schools, research organizations, and science education organizations who apply for a permit and any members of this group who receive a permit and then must submit the required annual report of accomplishment.

Estimated Number of Respondents: 3,000 per year.

Estimated Number of Responses per Respondent: Two responses per year per respondent for an annual total of 6,000 responses. For each permit cycle, each respondent will respond usually once to prepare and submit the application for a permit and respondents who are successful in being issued a permit will respond a second time to submit the required Investigator's Annual Report. Given that most applicants are successful in being issued a permit and that permit renewal usually occurs annually, the number of responses will approach a total that is two times the number of respondents.

Estimate of Burden Per Respondent: NPS estimates the reporting burden for this collection of information, including both the relevant application and the annual report, will average slightly more than 1.6 hours per respondent per year.

Estimated Total Annual Burden: 4,875 hours. This number assumes 3,000 respondents each take about 0.75 hours to complete the automated application form (including reading the guidance material), up to 3,000 successful applicants each take 0.25 hours to sign the issued permit and return it to the park, and up to 3,000 permittees each take 0.25 hours to complete the automated Investigator's Annual Report form, including reading the instructions. In addition, this number includes 0.25 hours each for approximately 1,500 respondents to copy and process documents that can not be submitted electronically, and 0.5 hours each for up to 1,500 respondents to prepare the portion of the Application for a Scientific Research and Collecting Permit that requires coordination with one or more non-NPS museums or other specimen repositories. Those few applicants who will be unable to process their applications and report forms electronically likely will spend a longer amount of time completing each form manually.

Methodology and Assumptions Underlying the Hour Estimate: Depending on complexity of the investigator's project, a complete Application for a Scientific Research and Collecting Permit consists of two or more electronic pages plus electronic or paper attachments of copies of existing materials. These copies of existing materials may include: (1) The research proposal the applicant prepared to secure funding for the applicant's project, (2) peer reviews that the applicant may have obtained on the research proposal during preparation of the proposal, (3) other permits the applicant may have had to obtain from other permitting organizations, and (4) other documents that may help the park receiving the application understand and evaluate the applicant's proposed activities in the park. A complete Application for a Science Education Permit consists of two electronic pages plus, if available, an electronic attachment or paper copy of an existing proposal the applicant may have prepared to secure funding or administrative approval for the applicant's science education activity. This analysis and burden hour estimate assume that, prior to preparing an application for a permit, respondents already have in hand study plans or education proposals, peer reviews as appropriate, other permits as necessary, and other supporting documents prepared for other purposes beyond what is required for either the Application for a Scientific Research and Collecting Permit or the Application for a Science Education Permit.

A complete Investigator's Annual Report consists of up to one and a half pages should the respondent completely fill the expandable portions of the electronic form. There are no attachments possible with the electronic Investigator's Annual Report form.

Estimated Non-Hour Cost Per Respondent to Comply with the Paperwork Requirements: There is no non-hour cost. There is no filing fee.

Dated: April 14, 2004.
Leonard E. Sterne,
Acting, National Park Service Information Collection Clearance Officer.

[FR Doc. 04-12594 Filed 6-2-04; 8:45 am]

BILLING CODE 4312-52-M